ENVIRONMENTAL PROTECTION AGENCY

[FRL OP-OFA-102]

Environmental Impact Statements; Notice of Availability

Responsible Agency: Office of Federal Activities, General Information 202-564-5632 or https://www.epa.gov/nepa.

Weekly receipt of Environmental Impact Statements (EIS)

Filed December 11, 2023 10 a.m. EST Through December 18, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230179, Third Draft Supplemental, USACE, CA, American River Common Features, 2016 Flood Risk Management Project, Sacramento, California Supplemental Environmental Impact Statement/Subsequent Environmental Impact Report XIV, Comment Period Ends: 02/05/2024, Contact: Guy Romine 916-496-4646.

EIS No. 20230180, Draft, NRCS, WI, Coon Creek Watershed, Comment Period Ends: 02/20/2024, Contact: Joshua Odekirk 262-470-2064.

EIS No. 20230181, Draft, NRCS, WI, West Fork Kickapoo Watershed, Comment Period Ends: 02/20/2024, Contact: Joshua Odekirk 262-470-2064.

Amended Notice: EIS No. 20230175, Draft, Caltrans, CA, Last Chance Grade Permanent Restoration Project Draft Environmental Impact Report/Environmental Impact Statement and Draft Section 4(f) Evaluation, Comment Period Ends: 02/13/2024, Contact: Steve Croteau 707-572-7149.

Revision to FR Notice Published 12/15/2023; Correction to document title at lead agency's request.

Dated: December 18, 2023.
Julie Smith,
Acting Director, NEPA Compliance Division, Office of Federal Activities.

[FR Doc. 2023-28249 Filed 12-21-23; 8:45 am]

BILLING CODE 6560-50-P